DEPARTMENT OF ENERGY

Federal Energy Regulatory Commission

[Docket No. CP98-150-002]

Millennium Pipeline Company, L.P.; Notice of Intent To Prepare a Supplement to the Draft Environmental Impact Statement for the Proposed Millennium Pipeline Project, as Amended; Request for Comments on Environmental Issues; and Notice of Public Scoping Meeting and Site Visit

August 9, 2000.

The staff of the Federal Energy Regulatory Commission (FERC or Commission) will prepare a supplement to the draft environmental impact statement (SDEIS) that will discuss the environmental impacts of the amended Millennium Pipeline Project involving construction, operation, and acquisition of facilities by Millennium Pipeline Company (Millennium) in New York.¹ The route for about 22.7 miles of the proposed Millennium Pipeline Project in Westchester County, New York, was amended by Millennium on June 28, 2000, in the above-referenced docket.

¹ Millennium Pipeline Company, L.P. and Columbia Gas Transmission Corporation filed their applications with the Commission under Section 7 of the Natural Gas Act and Part 157 of the Commission's regulations.

The route was amended because the original route which followed the Consolidated Edison Company (ConEd) electric transmission corridor was not a reasonable route. As a result of this change, the staff is preparing a SDEIS which will address the amended portion of the Millennium Pipeline Project. The SDEIS will also cover other changes to the project, evaluation of additional alternatives, and the results of technical analysis which have been completed since the publication of the DEIS (April 1999), as described below. By this Notice of Intent (NOI), we are seeking scoping comments on the amended portion of the route in Westchester County and the supplemental information.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” was attached to the project notice Millennium provided to landowners affected by the amended route. This fact sheet addresses a number of typically asked questions, including the use of eminent domain and how to participate in the Commission's proceedings. It is available for viewing on the FERC Internet website (www.ferc.fed.us).

Summary of the Amended Proposed Project

Millennium has proposed a reroute of the Millennium Pipeline Project from original project mileposts (MPs) 391 to 405 and MPs 408 to 417. The amended route is proposed to minimize construction in ConEd's electric transmission right-of-way. These facilities would transport up to 350,000 dekatherms per day of gas for shippers to Mount Vernon, New York. Millennium seeks authority to construct and operate the following amended facilities:

• 22.7 miles of 24-inch-diameter pipeline in Westchester County, New York; and

• Five mainline valves.

The location of the project facilities is shown in appendix 1.

Land Requirements for Construction

Construction of the proposed facilities in the amendment would require about 137.7 acres of land along construction rights-of-way that vary from 35 to 75 feet wide. This total requirement also includes extra work spaces at road, waterbody, and wetland crossings. Following construction, about 135.5 acres would be required for a 50-foot-wide permanent right-of-way. The total permanent land requirements after construction are only slightly less than the land requirements during construction, because of the reduced construction right-of-way widths of 35 feet that would be used for construction along about 4.2 miles of bike/hiking trails, and 50 feet that would be used for work along highways.

The EIS Process

The National Environmental Policy Act (NEPA) requires the Commission to take into account the environmental impacts that could result from an action whatever it considers the issuance of a Certificate of Public Convenience and Necessity. NEPA also requires us to discover and address concerns the public may have about proposals. We call this “scoping”. The main goal of the scoping process is to focus the analysis in the SDEIS on the important environmental issues. By this Notice of Intent, the Commission requests public comments on the scope of the issues related to the amendment filing which it will address in the SDEIS. All comments received are considered. State and local government representatives are encouraged to notify their constituents of this proposed action and encourage them to comment on their areas of concern.

The SDEIS will discuss impacts that could occur as a result of the construction and operation of the proposed project under these general headings:

• Geology and soils.

• Water resources, fisheries, and wetlands.

• Vegetation and wildlife.

• Endangered and threatened species.

• Public safety.

• Land use.

• Cultural resources.

• Air quality and noise.

• Hazardous waste.

We will also evaluate possible alternatives to the amended route or portions of the route, and make recommendations on how to lessen or avoid impacts on the various resource areas.

Our independent analysis of the issues will be in the SDEIS. The SDEIS will be published and mailed to Federal, state, and local agencies, public interest groups, interested individuals, affected landowners, newspapers, libraries, and the Commission's official service list for this proceeding. A comment period will be allotted for review of the SDEIS when it is published. We will consider all comments we receive before we issue the final environmental impact statement for this project and make our recommendations to the Commission.

To ensure your comments are considered, please carefully follow the instructions in the public participation section.

Currently Identified Environmental Issues

We have already identified several issues that we think deserve attention based on a preliminary review of the proposed facilities and the environmental information provided by Millennium along the amended route. This preliminary list of issues may be changed based on your comments and our analysis.

• The amended route would cross 31 waterbodies, of which 27 are perennial and 4 are intermittent. Three of the waterbodies are tidal: a pond, a tributary to the Hudson River, and the Croton River.

• The Croton River is within the Croton River and Bay Significant Coastal Fish and Wildlife Habitat as designated under the New York State Coastal Management Program and is a part of the designated Haverstraw Bay/Lower Hudson River Essential Fish Habitat. It would be crossed by a horizontal directional drill beneath the riverbed.

• About 6.2 miles of the amended route would be within the New York Coastal Zone.

• The project would cross two National Historic Landmarks: Van Cortlandt Manor and the Old Croton Aqueduct. It would also cross two properties eligible for listing in the National Register of Historic Places: the New Croton Aqueduct (three crossing locations) and the FDR Veterans' Administration Hospital.

• The project would cross 12 wetlands affecting a total of about 3.3 acres of wetlands during construction and about 2.5 acres during operation of the proposed facilities.

• Blasting may be required along some portions of the proposed amended project route.

• About 22.1 acres of forest would be affected by construction of the proposed amended route. After construction, about 18.4 acres of previously forested land would be permanently maintained in herbaceous vegetation to operate the facilities.

• Nine public properties would be crossed by the amended route:

Senasqua Town Park (MPs 394.3 to 395.3);

Van Cortlandt Manor (MPs 396.5 to 396.8);

Old Croton Aqueduct State Historic Park (MPs 397.4 [158 feet]);

Briarcliff-Peekskill Trailway land (MPs 397.0 to 401.3, MPs 401.8 to 404.1, and MPs 406.8 to 406.9);

North County Trail (MPs 401.6 to 401.9 and MPs 404.0 to 404.1); South County Trail (MPs 409.1 to 410.1, MPs 410.1 to 411.3, and MPs 411.6 to 416.5);

West Rumbrook Park (MP 410.1 [53 feet]);

Sprain Ridge County Park (MPs 414.6 to 416.1); and

Sprain Brook Parkway (MPs 416.6 to 416.7).

• Four residences would be within 50 feet of the construction right-of-way.

• Thirty businesses would be within 50 feet of the construction right-of-way.

• There would be 6 crossings of the ConEd electric transmission right-of-way.

• Construction would be along or within about 13.5 miles of road and highway rights-of-way and would temporarily affect traffic.

• Construction would temporarily disrupt the use of about 4.2 miles of bike/hiking trails.

Updated Information that will be Included in the SDEIS

The SDEIS will also provide updates on some aspects of the originally proposed Millennium Pipeline Project including:

• The results of the ice scour study and revised turbidity plume modeling for the crossing of Lake Erie (MPs 0.0 to 32.9);

• The modified construction method for crossing the Neversink River (MP 341.0);

• The proposed route and construction methods for crossing the black dirt area in Orange County, New York (MPs 350.0 to 354.0);

• The modified construction method and revised turbidity model for crossing the Hudson River (MP 387.9);

• The modified site-specific plan for crossing the Catskill Aqueduct (MP 418.2); and

• Evaluation of route alternatives proposed by various commentors since publication of the DEIS including:

Little Valley Variations (MPs 89.5 to 91.9);

Moore Variation (MPs 94.0 to 94.4);

Grimins Variation (MPs 185.0 to 186.0);

Moss Hill Road Variation (MPs 204.3 to 204.4);

Micha Variation (MPs 243.4 to 244.7);

Town Line Road Variation (MPs 243.0 to 244.0);

Bradley Creek Road Variations (MPs 241.1 to 242.6);

Fava Variation (MP 249.4);

Trader Variation (MP 314.4 to 314.5);

Mission Land Variation (MPs 350.4 to 350.5); and

Yonkers Parkway Variation (MPs 418.3 to 420.5).

Public Participation

You can make a difference by providing us with your specific comments or concerns about the project. By becoming a commentor, your concerns will be addressed in the SDEIS and considered by the Commission. You should focus on the potential environmental effects of the proposed route, alternatives to the proposed route (including alternative routes), and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426.

• Label one copy of the comments for the attention of Gas Group 2.

• Reference Docket No. CP98-150-002.

• Mail your comments so that they will be received in Washington, DC on or before September 8, 2000.

In addition to or in lieu of sending written comments, we invite you to attend the public scoping meeting the FERC will conduct in the project area. The location and time for this meeting are listed below:

Date and time | Location
August 29, 2000, 7 p.m. | Croton-on-Hudson Municipal Building, Van Wyck Street, Croton-on-Hudson, New York, 914-271-4781.

The public meeting is designed to provide you with another opportunity to offer your comments on the proposed amendment to the Millennium Pipeline Project. Interested groups and individuals are encouraged to attend the meeting and to present comments on the environmental issues they believe should be addressed in the SDEIS. A transcript of the meeting will be made so that your comments will be accurately recorded.

Our staff will also be visiting some project areas on August 30 and 31, 2000. Anyone interested in participating in the site visit may contact the Commission's Office of External Affairs, as identified, below, for more details. You must provide your own transportation.

If you do not want to send comments at this time but still want to remain on our mailing list, please return the Information Request (appendix 2). If you do not return the Information Request, you will be taken off the mailing list.

Becoming an Intervenor

In addition to involvement in the EIS scoping process, you may want to become an official party to the proceeding known as an “intervenor”. Intervenors have a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-20632 Filed 8-14-00; 8:45 am]

BILLING CODE 6717-01-M